FEDERAL RESERVE SYSTEM

Sunshine Act Meeting

agency holding the meeting: Board of Governors of the Federal Reserve System.

time and date: 11:30 a.m., Monday, March 13, 2006.

place: Marriner S. Eccles Federal Reserve Board Building, 20th and C Streets, NW., Washington, DC 20551.

status: Closed.

matters to be considered:

1. Personnel actions (appointments, promotions, assignments, reassignments, and salary actions) involving individual Federal Reserve System emplyees.

2. Any items carried forward from a previously announced meeting.

for further information contact: Michelle Smith, Director, or Dave Skidmore, Assistant to the Board, Office of Board Members at (202) 452-2955.

supplementary information: You may call (202) 452-3206 beginning at approximately 5 p.m., two business days before the meeting for a recorded announcement of bank and bank holding company applications scheduled for the meeting; or you may contact the Board's Web site at http://www.federalreserve.gov for an electronic announcement that not only lists applications, but also indicates procedural and other information about the meeting.

Dated: March 3, 2006.
Robert deV. Frierson,
Deputy Secretary of the Board.

[FR Doc. 06-2196 Filed 3-3-06; 2:23 pm]

BILLING CODE 6210-01-M